DEPARTMENT OF THE INTERIOR

Bureau of Indian Affairs

Proposed Agency Information Collection Activities; Comment Request

AGENCY: Bureau of Indian Affairs, Interior.

ACTION: Notice.

SUMMARY: This notice announces that the information collection request for Student Transportation Mileage Form, OMB Control # 1076-0134, requires renewal. As required by the Paperwork Reduction Act, we request your comments on this collection before submission to the Office of Management and Budget.

DATES: Written comments must be submitted on or before August 5, 2002.

ADDRESSES: Submit comments to William Mehojah, Director, Office of Indian Education Programs, Department of the Interior, Bureau of Indian Affairs, 1849 C Street NW, Mail Stop 3512-MIB, Washington, DC 20240.

FOR FURTHER INFORMATION CONTACT: Dr. Joe D. Herrin, (202)-208-7658

SUPPLEMENTARY INFORMATION:

I. Abstract

The information collection is needed to provide transportation mileage for Bureau-funded schools which will receive an allocation of transportation funds.

II. Method of Collection

The Student Transportation regulations in 25 CFR part 39, subpart H, contain the program eligibility and criteria which govern the allocation of transportation funds. Information collected from the schools will be used to determine the rate per mile.

III. Data

Title of the Collection of Information: Student Transportation Form, 25 CFR 39, Subpart H; OMB Control Number 1076-0134.

Type of Review: Renewal of a currently approved information collection.

Summary of the Collection of Information: This collection provides pertinent data concerning the schools' bus transportation mileage and related long distance travel mileage to determine funding for school transportation.

Affected Entities: Contract and Grant Schools; Bureau operated schools. About 116 tribal school administrators annually gather the necessary information during student count week.

Estimate of total annual reporting and record keeping burden: At an average of 6 hours each “121 reporting schools = 726 hours.

Total annual cost burden: 726 hours × $20/hour = $14,520.

IV. Request for Comments

The Department of the Interior invites comments on: (a) Whether the collection of information is necessary for the proper performance of the functions of the agency, including whether the information will have practical utility; (b) the accuracy of the agency's estimate of the burden (including the hours and cost) of the proposed collection of information; the validity of the methodology and assumption used; (c) ways to enhance the quality, utility, and clarity of the information to be collected; and (d) ways to minimize the burden of the collection on the respondents, including through the use of appropriate automated, electronic, mechanical, or other collection techniques or other forms of information technology. Burden means the total time, effort, or financial resources expended by persons to generate, maintain, retain, or disclose or provide information to or for a Federal agency. This includes the time needed to review instructions; to develop, acquire, install and utilize technology and systems for the purpose of collecting, validating, and verifying information, and disclosing and providing information, to search data sources, to complete and review the collection of information; and to transmit or otherwise disclose the information.

Comments submitted in response to this notice will be summarized and/or included in the submission of the collection to OMB for approval and renewal of this information collection. They become a matter of public record. If you wish to have your name and address withheld for any reason, you must state so prominently at the beginning of your comments. We will honor your request to the extent allowable by law. Anonymous comments will not be used.

An agency may not conduct or sponsor, and a person is not required to respond to, a collection of information unless it displays a currently valid Office of Management and Budget Control Number.

Dated: May 22, 2002.
Neal A. McCaleb,
Assistant Secretary—Indian Affairs.

[FR Doc. 02-13928 Filed 6-3-02; 8:45 am]

BILLING CODE 4310-6W-P